DEPARTMENT OF AGRICULTURE

Cooperative State Research, Education, and Extension Service

Integrated Research, Education, and Extension Competitive Grants Program—Pest Management: Request for Proposals and Request for Input

AGENCY: Cooperative State Research, Education, and Extension Service, USDA.

ACTION: Notice of request for proposals and request for input.

SUMMARY: The Cooperative State Research, Education and Extension Service (CSREES) announces the availability of grant funds and requests proposals for the Integrated Research, Education, and Extension Competitive Grants Program—Pest Management for fiscal year (FY) 2001 to support integrated, multifunctional agricultural research, extension, and education activities that address complex pest management priorities in United States agriculture, which can most properly be addressed by multifunctional and multidisciplinary projects incorporating research, extension, and education activities. The Integrated Research, Education, and Extension Competitive Grants Program—Pest Management currently has five program components: Crops at Risk from FQPA Implementation (CAR); FQPA Risk Avoidance and Mitigation for Major Food Crop Systems (RAMP); Methyl Bromide Transitions (MBT); Organic Transition (ORG); and Pest Management Centers. The amount available for support of this program in FY 2001 is approximately $13,242,634 of which a portion will be used to fund the second year of continuation grants for the Pest Management Centers that were awarded in FY 2000 for three years (FY 2000-FY 2002). As a result, approximately $8,929,112 will be made available to fund new grant proposals in FY 2001.

This notice sets out the objectives for Pest Management projects, the eligibility criteria for projects and applicants, the application procedures, and the set of instructions needed to apply for a Pest Management grant under this authority.

By this notice, CSREES additionally solicits stakeholder input from any interested party regarding the FY 2001 Integrated Research, Education, and Extension Competitive Grants Program—Pest Management for use in the development of any future requests for proposals (RFP's) for this program.

DATES: Proposals must be received by close of business (COB) on May 14, 2001 (5:00 p.m. EST). Proposals received after this date will not be considered for funding. Comments regarding this RFP are requested within six months from the issuance of this notice. Comments received after that date will be considered to the extent practicable.

ADDRESSES: The address for hand-delivered proposals or proposals submitted using an express mail or overnight courier service is: Integrated Research, Education, and Extension Competitive Grants Program—Pest Management; c/o Proposal Services Unit; Cooperative State Research, Education, and Extension Service; U.S. Department of Agriculture; Room 1307, Waterfront Centre; 800 9th Street, SW.; Washington, DC 20024.

Proposals sent via the U.S. Postal Service must be sent to the following address: Integrated Research, Education, and Extension Competitive Grants Program—Pest Management; c/o Proposal Services Unit; Cooperative State Research, Education, and Extension Service; U.S. Department of Agriculture; STOP 2245; 1400 Independence Avenue, SW.; Washington, DC 20250-2245.

Written user comments should be submitted by mail to: Policy and Program Liaison Staff; Office of Extramural Programs; USDA-CSREES; STOP 2299; 1400 Independence Avenue, SW.; Washington, DC 20250-2299; or via e-mail to: RFP-OEP@reeusda.gov. In your comments, please include the name of the program and the fiscal year of the RFP to which you are responding.

FOR FURTHER INFORMATION CONTACT: Applicants and other interested parties are encouraged to contact the following individuals: CAR: Dr. Rick Meyer; National Program Leader; Plant and Animal Systems Unit; Cooperative State Research, Education, and Extension Service; U.S. Department of Agriculture; STOP 2220; 1400 Independence Avenue, SW.; Washington, DC 20250-2220; Telephone: (202) 401-4891; Fax: (202) 401-4888; e-mail address: hmeyer@reeusda.gov; RAMP: Dr. Michael Fitzner; National Program Leader; Plant and Animal Systems Unit; Cooperative State Research, Education, and Extension Service; U.S. Department of Agriculture; STOP 2220; 1400 Independence Avenue, SW.; Washington, DC 20250-2220; Telephone: (202) 401-4939; Fax: 202-401-4888; e-mail address: mfitzner@reeusda.gov; MBT: Dr. Thomas Bewick; National Program Leader; Plant and Animal Systems Unit; Cooperative State Research, Education, and Extension Service; U.S. Department of Agriculture; STOP 2220; 1400 Independence Avenue, SW.; Washington, DC 20250-2220; Telephone: (202) 401-3356; Fax: (202) 401-4888; e-mail address: tbewick@reeusda.gov; and ORG: Dr. Anne Bertinuson; Program Specialist; Plant and Animal Systems Unit; Cooperative State Research, Education, and Extension Service; U.S. Department of Agriculture; STOP 2220; 1400 Independence Avenue, SW.; Washington, DC 20250-2220; Telephone: (202) 401-6825; Fax: (202) 401-5179; e-mail address: abertinuson@reeusda.gov.

SUPPLEMENTARY INFORMATION:

Table of Contents

Stakeholder Input

Catalog of Federal Domestic Assistance

Part I—General Information

A. Legislative Authority and Background

B. Purpose, Priorities, and Fund Availability

C. Definitions

D. Eligibility

E. Types of Proposals

F. Matching Requirements

G. Funding Restrictions

Part II—Program Description

A. Project Types

B. Program Area Description

Part III—Preparation of a Proposal

A. Program Application Materials

B. Content of Proposals

C. Submission of Proposals

D. Acknowledgment of Proposals

Part IV—Review Process

A. General

B. Evaluation Criteria

C. Conflicts-of-Interest and Confidentiality

Part V—Grant Awards

A. General

B. Funding Mechanisms

C. Organizational Management Information

D. Grant Award Document and Notice of Grant Award

Part VI—Additional Information

A. Access to Review Information

B. Use of Funds; Changes

C. Expected Program Outputs and Reporting Requirements

D. Applicable Federal Statutes and Regulations

E. Confidential Aspects of Proposals and Awards

F. Regulatory Information

Stakeholder Input

CSREES is soliciting comments regarding this RFP from any interested party. These comments will be considered in the development of any future RFP for the program. Such comments will be used to meet the requirements of section 103(c)(2) of the Agricultural Research, Extension, and Education Reform Act of 1998 (7 U.S.C. 7613(c)(2)). This section requires the Secretary to solicit and consider input on a current RFP from persons who conduct or use agricultural research, education and extension for use in formulating future RFP's for competitive programs. Comments should be submitted as provided for in the ADDRESSES and DATES portions of this Notice.

The FY 2000 RFP for Integrated Research, Education, and Extension Competitive Grants Program—Pest Management which was published in the Federal Register on April 7, 2000 [65 FR 18822—18835] solicited comments on the RFP from any interested party to be used in the development of future RFP's. One comment was received and considered in the development of the FY 2001 RFP.

Catalog of Federal Domestic Assistance

This program is listed in the Catalog of Federal Domestic Assistance under 10.303, Integrated Research, Education, and Extension Competitive Grants Program.

Part I—General Information

A. Legislative Authority and Background

Section 406 of the Agricultural Research, Extension, and Education Reform Act of 1998 (AREERA) (7 U.S.C. 7626) authorized the Secretary of Agriculture to establish a research, education, and extension competitive grants program to provide funding for integrated, multifunctional agricultural research, extension, and education activities. Subject to the availability of appropriations to carry out this program, the Secretary may award grants to colleges and universities (as defined by 1404 of the National Agricultural Research, Extension, and Teaching Policy Act of 1977 (NARETPA) (7 U.S.C. 3103)) on a competitive basis for integrated research, education, and extension projects. Grants are to be awarded to address priorities in United States agriculture that involve integrated research, education, and extension activities as determined by the Secretary in consultation with the National Agricultural Research, Extension, Education, and Economics Advisory Board.

On November 19, 1999, the Secretary published in the Federal Register [64 FR 63560] a notice that the administration of this grant program had been delegated to the Cooperative State Research, Education, and Extension Service (CSREES). This notice also solicited public comment from persons who use or conduct research, extension, or education regarding the priorities to be addressed by this new program. In addition, this notice announced a public meeting to obtain comments to use in developing the proposed rule and RFP's for this new grant program. The public meeting was held on December 6, 1999.

All the comments and the official transcript of the meeting were made available for review on the CSREES web page. The comments and testimonies from the December 6, 1999, public meeting were considered in the formulation of the FY 2000 RFP and FY 2001 RFP. Both RFP's were developed in consultation with the Advisory Board.

The Organic Transition Program is added to the FY 2001 RFP due to the appropriation of Section 406 funds for this purpose in FY 2001. This program was not directly addressed in the original Federal Register Notice or at the December 6, 1999, public meeting. However, priorities of organic producers are identified through ongoing interactions with institutions such as the Organic Farming Research Foundation (OFRF), the Rodale Institute, and the Organic Crop Improvement Association, and individual producers. The biennial OFRF National Organic Farmers Survey, which receives input from the Economic Research Service and the National Agricultural Statistics Service, also serves as a reference.

The entire Integrated Research, Education, and Extension Competitive Grants Program is funded in FY 2001 at $39,838,535 (after deduction for administrative expenses) for the following integrated activities: Water Quality ($12,348,773), Food Safety ($14,247,128), and the Pest Management component which includes Pesticide Impact Assessment ($4,313,522), Crops at Risk from Food Quality and Protection Act (FQPA) Implementation ($1,424,858), FQPA Risk Mitigation Program for Major Food Crop Systems ($4,654,537), Methyl Bromide Transitions ($2,374,764), and Organic Transition ($474,953). There will be four RFP's for this program. The Food Safety Programs will have one RFP and the Water Quality program will have two RFP's, while the latter five programs will be announced as one RFP for Pest Management. This notice announces and describes the Pest Management component of the Program.

CSREES will administer the Integrated Research, Education, and Extension Competitive Grants Program by determining priorities in United States agriculture through Agency stakeholder input processes and in consultation with the National Agricultural Research, Extension, Education, and Economics Advisory Board. Each RFP for the different program areas (e.g., Water Quality and Food Safety) will be developed each fiscal year based on these established priorities and the resulting approaches to solving these critical agricultural issues. Although this overall grant program seeks to solve critical agricultural issues through an integration of research, education, and extension activities, a component of a RFP, depending on the priority being addressed and/or the stage at which the priority is being addressed, may request proposals that are research, education, or extension only, or a combination thereof. However, the overall overarching approach to solving the critical agricultural issue, priority, or problem will be through an integration of research, education, and extension activities within each individual program area.

B. Purpose, Priorities, and Fund Availability

The components of the Integrated Competitive Grants Program—Pest Management to be funded in FY 2001 are Crops at Risk from FQPA Implementation program (CAR); FQPA Risk Avoidance and Mitigation for Major Food Crop Systems (RAMP); Methyl Bromide Transitions Program (MBTP); Organic Transitions Program (ORG); and Pesticide Impact Assessment Program (hereafter referred to as “Pest Management Centers”). Please note that proposals for the Pest Management Centers component will not be solicited this year in that four centers were established in FY 2000 and are ongoing through FY 2002.

The five components of the Integrated Research, Education, and Extension Competitive Grants Program—Pest Management will support a wide range of complementary research, education, and extension activities. Together, these five components support activities to assess the use and efficacy of available pest management tools, develop and demonstrate the efficacy of reduced-risk pesticides and other pest management alternatives, and identify possible transition and mitigation strategies that serve as viable pest management options for crops and agro-ecosystems at risk.

Priority will be given for integrated, multifunctional research, education, and extension projects (i.e., those that contain research, education, and extension components).

This integrated grants program creates opportunities for fruitful new collaborations between individuals and institutions which can address problems in new ways and/or improve communication with under-served or hard-to-reach audiences. In order to fully realize these potential benefits, CSREES strongly encourages applicants to develop proposals that include:

(1) Integrated activities that include collaboration with small- or mid-sized, accredited colleges and universities;

(2) Integrated activities that include collaboration with historically black colleges and universities, Hispanic-serving institutions, tribal colleges, and/or other institutions that serve high-risk, under-served, or hard-to-reach audiences; or

(3) International partnerships, linkages, and exchanges that contribute to addressing U.S. national pest management issues.

By integrating these five separate program components into a single competitive grants program, CSREES has responded to stakeholder suggestions that the Agency develop a coordinated program to address pest management challenges that face the Nation in the short- and long-terms. Projects supported by the five components of the Integrated Research, Education, and Extension Competitive Grants Program—Pest Management will support a wide range of complementary research, education, and extension activities. Together, these five components support activities to assess the use and efficacy of available pest management tools, develop and demonstrate the efficacy of reduced-risk pesticides and other pest management alternatives, and identify possible transition and mitigation strategies that serve as viable pest management options for crops and agro-ecosystems at risk. CSREES also expects that Integrated Research, Education, and Extension Competitive Grants Program—Pest Management projects will complement other CSREES pest management programs such as the Pest Management Alternatives Program (PMAP), the Regional Integrated Pest Management Grants Program (RIPM), the Pesticide Applicator Training program (PAT), the Minor Crops Program (IR-4), and to pest management activities funded under the regional Sustainable Agriculture Research and Education program (SARE) and the National Research Initiative (NRI).

There is no commitment by USDA to fund any particular proposal or to make a specific number of awards. Approximately $13 million will be available to fund proposals in FY 2001 distributed among the program components as follows: CAR—$1,424,858, RAMP—$4,654,537, MBT—$2,374,764, ORG—$474,953, and Pest Management Centers—$4,313,522. However, applications are only being solicited under this RFP (FY 2001) for CAR, RAMP, MBT, and ORG. No applications are being solicited this year for the Pest Management Centers as those were awarded in FY 2000 as continuation grants for a period of three years (i.e., FYs 2000, 2001 and 2002).

C. Definitions

For the purpose of awarding grants under this program, the following definitions are applicable:

(1) Administrator means the Administrator of the Cooperative State Research, Education, and Extension Service (CSREES) and any other officer or employee of the Department to whom the authority involved is delegated.

(2) Authorized departmental officer means the Secretary or any employee of the Department who has the authority to issue or modify grant instruments on behalf of the Secretary.

(3) Authorized organizational representative means the president, director, or chief executive officer or other designated official of the applicant organization who has the authority to commit the resources of the organization.

(4) Budget period means the interval of time (usually 12 months) into which the project period is divided for budgetary and reporting purposes.

(5) Cash contributions means the applicant's cash outlay, including the outlay of money contributed to the applicant by non-Federal third parties.

(6) Department or USDA means the United States Department of Agriculture.

(7) Education activity means formal classroom instruction, laboratory instruction, and practicum experience in the food and agricultural sciences and other related matters such as faculty development, student recruitment and services, curriculum development, instructional materials and equipment, and innovative teaching methodologies.

(8) Extension activity means an act or process that delivers science-based knowledge and informal educational programs to people, enabling them to make practical decisions.

(9) Grant means the award by the Secretary of funds to an eligible organization or individual to assist in meeting the costs of conducting, for the benefit of the public, an identified project which is intended and designed to accomplish the purpose of the program as identified in these guidelines.

(10) Grantee means an organization designated in the grant award document as the responsible legal entity to which a grant is awarded.

(11) Integrated means to bring the three components of the agricultural knowledge system (research, education, and extension) together around a problem area or activity.

(12) Matching means that portion of allowable project costs not borne by the Federal Government, including the value of in-kind contributions.

(13) Peer review means an evaluation of a proposed project for scientific or technical quality and relevance performed by experts with the scientific knowledge and technical skills to conduct the proposed work or to give expert advice on the merits of a proposal.

(14) Principal investigator/Project director means the single individual designated in the grant application and approved by the Secretary who is responsible for the direction and management of the project.

(15) Prior approval means written approval evidencing prior consent by an authorized departmental officer as defined in (2) above.

(16) Project means the particular activity within the scope of the program supported by a grant award.

(17) Project period means the period, as stated in the award document, during which Federal sponsorship begins and ends.

(18) Research activity means a scientific investigation or inquiry that results in the generation of knowledge.

(19) Secretary means the Secretary of Agriculture and any other officer or employee of the Department to whom the authority involved is delegated.

(20) Third party in-kind contributions means non-cash contributions of property or services provided by non-Federal third parties, including real property, equipment, supplies and other expendable property, directly benefitting and specifically identifiable to a funded project or program.

(21) Total integrated, multifunctional research, education, and extension approach means that the combination of grants (although the individual grants may involve only research, education, or extension activities or a combination thereof) awarded under the fiscal year's program components will work together to address the priorities in United States agriculture as determined by the Secretary of Agriculture in consultation with the Advisory Board, that involve integrated research, extension, and education activities.

D. Eligibility

Proposals may be submitted by colleges and universities as defined in section 1404 of the National Agricultural Research, Extension, and Teaching Policy Act of 1977 (NARETPA). The terms “college” and “university” mean an educational institution in any State which (1) admits as regular students only persons having a certificate of graduation from a school providing secondary education, or the recognized equivalent of such a certificate, (2) is legally authorized within such State to provide a program of education beyond secondary education, (3) provides an educational program for which a bachelor's degree or any other higher degree is awarded, (4) is a public or other nonprofit institution, and (5) is accredited by a nationally recognized accrediting agency or association. Although an applicant may be eligible based on its status as one of these entities, there are factors which may exclude an applicant from receiving Federal financial and nonfinancial assistance and benefits under this program (e.g., debarment or suspension of an individual involved or a determination that an applicant is not responsible based on submitted organizational management information). Eligible applicants may subcontract to organizations not eligible under these requirements.

Please note that a research foundation maintained by a college or university is not eligible to receive an award under this program. Proposals received from research foundations will not be considered for funding.

E. Types of Proposals

In FY 2001, projects under the Integrated Research, Education, and Extension Competitive Grants Program authority may be submitted as one of the two types of proposals described below:

(1) New proposal. This is a project proposal that has not been previously submitted to the Integrated Research, Education, and Extension Competitive Grants Program. All new proposals will be reviewed competitively using the selection process and evaluation criteria described in Part IV—Review Process.

(2) Resubmitted proposal. This is a proposal that had previously been submitted to the Integrated Research, Education, and Extension Competitive Grants Program but not funded. The resubmitted proposal should clearly indicate the changes that have been made in the project proposal.

Further, a clear statement acknowledging comments from the previous reviewers, indicating revisions, rebuttals, etc., can positively influence the review of the proposal. Therefore, for resubmitted proposals, the investigator(s) must respond to the previous panel summary on no more than one page, titled “RESPONSE TO PREVIOUS REVIEW,” which is to be placed directly after the Project Summary as described in Part III—Preparation of a Proposal. Resubmitted proposals will be reviewed competitively using the selection process and evaluation criteria described in Part IV—Review Process.

F. Matching Requirements

1. General Requirement

If a grant provides a particular benefit to a specific agricultural commodity, the grant recipient is required to provide funds or in-kind support to match the amount of the grant funds provided. See section 12.c. on “Matching Funds” under Part III, B, “Content of Proposals” for more details.

2. Waiver

CSREES may waive the matching funds requirement specified in the above paragraph for a grant if CSREES determines that (a) the results of the project, while of particular benefit to a specific agricultural commodity, are likely to be applicable to agricultural commodities generally; or (b) the project involves a minor commodity, the project deals with scientifically important research, and the grant recipient is unable to satisfy the matching funds requirement.

G. Funding Restrictions

CSREES has determined that grant funds awarded under this authority may not be used for the renovation or refurbishment of research, education, or extension space; the purchase or installation of fixed equipment in such space; or the planning, repair, rehabilitation, acquisition, or construction of buildings or facilities.

Part II—Program Description

A. Project Types

Approximately $1,424,858 is available for CAR projects in FY 2001. Proposals should be between two to four years in duration with a budget of not more than $200,000 per year.

Approximately $4,654,537 is available for RAMP projects in FY 2001. Proposals can be up to five years in duration with a maximum budget of $500,000 per year.

Approximately $2,374,764 is available for MBT projects in FY 2001. It is anticipated that 12-15 grants of up to two years in duration will be awarded in this program component.

Approximately $474,953 is available for ORG projects in FY 2001. It is anticipated that three to five grants of up to four years in duration will be awarded in this program component.

Approximately $4,313,522 is available for Pest Management Center projects funded in FY 2000. Since these Pest Management Centers were funded as continuation grants for FY 2001 and FY 2002, no new applications are being solicited in FY 2001 for Pest Management Centers projects.

Grants awarded under the Program Area Descriptions of CAR, RAMP, MBT and ORG (as described in this RFP) will be issued as “New Grant” instruments and usually will be awarded as “Standard Grants.”

B. Program Area Description

In FY 2001, proposals are being solicited in four program areas for the Integrated Research, Education, and Extension Competitive Grants Program—Pest Management: Crops at Risk from FQPA Implementation (CAR); FQPA Risk Avoidance and Mitigation for Major Food Crop Systems (RAMP); Methyl Bromide Transitions (MBT); and Organic Transition (ORG). Each component has a specific focus, and it is essential that applicants read the program area description carefully when preparing proposals.

Two program areas, Crops at Risk from FQPA Implementation (CAR) and FQPA Risk Avoidance and Mitigation for Major Food Crop Systems (RAMP), address needs created by the implementation of the Food Quality Protection Act (FQPA) of 1996. The following background information applies to both of these programs.

The Office of Pesticide Management of the Environmental Protection Agency (EPA) maintains a web site (http://www.epa.gov/pesticides) which is a clearinghouse for information on pesticide tolerance assessment and reregistration under FQPA, as well as information on registered pesticides, including biopesticides. EPA also issues an electronic newsletter that will announce updates to pesticide registration status. Information on subscribing to this electronic newsletter is also available at the above web site. In preparing proposals for CAR and RAMP, applicants should use information from EPA to identify at-risk pesticides that may affect pest management practices for their commodity of interest. Applicants should also identify recently registered pesticides or those under new registration review.

Proposals are solicited for the following program areas:

(1) Crops at Risk from FQPA Implementation (CAR) (Program Area 112.A)

(Maximum award: $200,000 per year for two to four years).

The Crops at Risk from FQPA Implementation (CAR) program is an intermediate-term (two to four years) research, education, and extension competitive grants program with at-risk crops or cropping systems as the focal point. Several crops and cropping systems face potentially severe economic impacts as a result of the possible restrictions or elimination of certain pesticides resulting from implementation of the Food Quality Protection Act (FQPA) of 1996 and other regulatory actions. In the short-term, small-acreage fruit and vegetable crops are most vulnerable. However, many more crops, including large-acreage grain, forage and fiber crops, will be impacted during the pesticide review process. Development of new multiple-tactic pest management strategies designed to assist producers during the transition is the goal of this program component.

Specific Objectives

(a) Evaluate new approaches to pest management techniques and technology (e.g., rates, timing, pre-harvest intervals, application methods and equipment, and post-harvest treatment) that could reduce or eliminate pesticide residues of concern or the effects of these residues;

(b) Develop new pest management tactics based on alternative technologies, including products of genetic engineering, biological organisms, biological pesticides, new chemical pesticides, and cultural practices; and

(c) Demonstrate and describe how new tactics can be economically and practically integrated into pest management programs for individual crops.

Proposals that address priorities established by stakeholders representing an entire crop production region, consider crosscutting challenges, and show evidence of multi-state or within-state cooperation regarding research, education, and extension will be given preference.

All proposals should include an extension/outreach component to promote the exchange of pest management information among researchers, extension agents, producers, and commodity groups as it relates to the project.

(2) FQPA Risk Avoidance and Mitigation for Major Food Crop Systems Program (RAMP) (Program Area 112.B)

(Maximum award: $500,000 per year for up to five years).

The FQPA Risk Avoidance and Mitigation for Major Food Crop Systems Program (RAMP) is a long-term (up to five years) research, education, and extension competitive grants program to develop reduced risk pest management strategies for agro-ecosystems or cropping systems. Global markets for food and grain products demand high quality at competitive prices. Growers are faced with meeting market demands and ever-increasing production costs coupled with decreasing or unstable commodity prices. Added to these constraints are concerns posed by implementation of regulatory actions over the next decade. Many of the pest management tools growers have depended on in the past may be restricted or eliminated. Growers face uncertainty regarding which pest management tactics will continue to be available and how to incorporate new technologies into their production systems (e.g., bio-based pest management alternatives, bioengineered crop innovations, and precision agriculture). There is a critical need to devise pest management systems that consider all aspects of crop production.

Projects supported by RAMP will have a food, fiber, or grain production system focus and may include consideration of food safety, occupational safety, water quality and other environmental concerns. The RAMP program area will address the major acreage cropping systems including, but not limited to, corn, soybean, wheat, cotton and rice, as well as, the fruits and vegetables most important in the human diet, especially the diets of infants and children. Emphasis will be placed on development and implementation of new and innovative pest management systems designed to maintain crop productivity and profitability while addressing environmental quality and human health concerns. The goal of this long-term approach is to eliminate or minimize pesticide residues of concern on foods, in drinking water, and in the environment. This program also supports projects to reduce occupational risk for producers and their employees. These will be long-term projects and will evolve from in-depth discussions of the production system's pest management needs and priorities identified by stakeholders. Projects are intended to enhance stability and sustainability of agricultural production systems and will be multi-state or regional in scale. Typically they will involve multiple cropping systems that define an agro-ecosystem. A major goal of this effort will be the development of pest management systems that further the advanced understanding of cropping system biology and ecology.

Specific Objectives

(a) Develop methods of pest management that reduce or eliminate risks associated with pesticide residues; and

(b) Develop and implement information intensive approaches to pest management based on a more complete understanding of crop and pest biology, their interactions and mutual impacts, and factors impacting the stability of pest management systems in major cropping systems.

Proposals that strive to maintain crop economic viability based on a diverse bio-based pest management system are encouraged. Proposals should address priorities established by stakeholders representing an entire cropping system and consider crosscutting challenges, and must show evidence of multi-state and multi-disciplinary cooperation involving research, education, and extension. Proposals should catalog and review the pest management tactics currently being used in the targeted cropping system, then define opportunities for new pest management approaches. All proposals should include an extension/outreach component to promote the exchange of pest management information among researchers, extension agents, producers and commodity groups as it relates to the project. Outreach efforts can make use of publications, website development, field days, workshops or other relevant planning and outreach activities. Successful proposals will provide milestones and independently verifiable indicators that can be used to measure progress and impact across a range of ecological, agronomic and economic criteria. Budgetary provisions should be made to support a formal stakeholder review after the second field season and at the end of the project.

(3) Methyl Bromide Transitions Program (MBT) (Progam Area 112.C)

(No maximum award and up to two years; however, it is anticipated that 12-15 grants will be funded).

The phase-out of methyl bromide is required under Title IV of the Clean Air Act (as amended in 1990) based on its projected ozone-depleting potential. In October 1998, the Clean Air Act was amended to change the phase-out date to 2005, in harmonization with the date agreed to in the Montreal Protocol. Further information on the phase-out of methyl bromide is available on the EPA website at http://www.epa.gov/ozone/mbr/harmoniz.html.The Methyl Bromide Transitions Program (MBT) supports the discovery and implementation of practical pest management alternatives for commodities affected by the phase-out of methyl bromide. Projects supported by MBT will focus on short-to intermediate-term solutions for all commodities at risk using presently available or newly developed pest management technologies and practices. Since alternatives to methyl bromide that have thus far been developed require different pest management strategies than those used for methyl bromide alone, projects supported by MBT will emphasize the development and implementation of integrated management approaches. This includes increased research, education and extension activities on all commodities at risk, involving field trials and other demonstration projects that enhance the adoption of pest management alternatives for affected commodities.

Specific Objectives

(a) Develop integrated research, education, and extension approaches as methyl bromide alternatives on strawberry, tomato, other vegetables, fruits and nuts;

(b) Develop integrated research, education, and extension approaches as methyl bromide alternatives for floral, forestry and general nursery production to assure pest- and pathogen-free rootstocks; and

(c) Develop extension activities to implement pest management alternatives, including field trials and other demonstration projects that enhance producer adoption of alternative management practices that increase the transfer of results to growers.

Proposals that address priorities established by stakeholders, consider crosscutting challenges, and show evidence of multi-state or within-state cooperation involving research, education, and extension will be given preference.

(4) Organic Transition (ORG) (Program Area 112.E)

(No maximum award and up to four years; however, it is anticipated that three to five grants will be funded).

Organic farming became one of the fastest growing segments of U.S. agriculture during the 1990's. Farmers cite many reasons for adopting organic practices, including economic (i.e., to lower input costs, to capture high value markets), environmental (i.e., to conserve nonrenewable resources, to be an environmental steward) and health (i.e., to reduce exposure of themselves and their families to agrochemicals). Converting to organic production is not as simple as eliminating chemical inputs. Organic farming is not simply the avoidance of conventional chemical inputs, nor is it the substitution of natural inputs for synthetic ones. Organic farmers implement a wide range of strategies to develop biological diversity and maintain and replenish soil fertility.

Making the transition to organic production generally requires farmers to absorb a great deal of new information, and to experiment with combinations of techniques to meet their needs. As documented in a 1997 report from the Organic Farming Research Foundation (OFRF), “Searching for the O-Word: An Analysis of the USDA Current Research Information System (CRIS) for Pertinence to Organic Farming” (http://www.ofrf.org/policy/oword1.html), very little systems research has been done on organic farming in the United States. Research on agricultural production components such as biocontrol and cropping systems has been of limited value to organic farmers, since the components are generally not developed and tested in an organic agro-ecosystem, and research results and recommendations thus can not be applied directly to organic farms.

The purpose of this program is to assist farmers in successfully adopting organic practices by supporting systems research on organic farming combined with outreach and education programs to transfer technologies to farmers in the near term. It is anticipated that the types of research to be supported will be very applied. Field work for this program must be done in an organic agro-ecosystem. Applicants are reminded that since some practices and inputs are unallowable in certified organic production, they should ensure that their planned work is compatible with organic production. The USDA National Organic Program (http://www.ams.usda.gov/nop/) is a good source of organic production information. Because farmer involvement is critical to the success of this program, and to the dissemination of research findings, priority will be given to proposals which include farmers as partners in planning, implementing, and evaluating project activities.

Priorities for funding in FY 2001 were developed by considering the priorities of complementary programs, such as SARE and the Initiative for Future Agriculture and Food Systems, and identified stakeholder needs in the context of the limited funds available for this program in this fiscal year. OFRF conducts a biennial survey of research needs of organic farmers. A summary of the most recent survey is available online at: http://www.ofrf.org/survey/1997.html. As in two previous surveys, both certified and transitioning organic farmers reported that weed control is their number one need.

Specific Objective

The specific objectives of the ORG Program is to support projects that perform systems research on ecologically-based weed management combined with outreach and education programs to share information and methods with farmers in the near term.

Ecologically-based approaches to weed management include, but are not limited to, cultural effects (i.e., crop rotation and soil fertility) on weed pressure and species mix, timing and type of tillage, flaming or burning, controlling weeds that reproduce vegetatively, use of allelopathic covercrops and green manure crops, biocontrol insects or microorganisms, residue management, managing weed seed banks, and use of livestock to control weeds.

Successful organic agriculture incorporates a mix of strategies in general production management. In terms of weed management, organic producers are not seeking a “magic bullet” targeted to a specific weed pest. They need integrated strategies that address overall weed management in a manner appropriate for their production system. The problems and solutions for range, field crops, row crops or orchards may not be the same, even given the presence of the same weed(s) in different production systems.

In describing proposed work for this program, applicants should clearly state the type of production system for which their management strategies are appropriate. They should demonstrate the need for the proposed work, both in terms of stakeholder needs, and the magnitude of the problem. The magnitude of the problem should be related to current numbers of producers and acres affected, as well as potential for increased production in the area of study which may result from developing and demonstrating ecologically-based pest management strategies.

An outcome-oriented plan for disseminating information derived from the proposed work should be an integral part of the project. This information may include analysis of results of field research, farmers' evaluations of the weed management strategies developed, or increased understanding of how to perform successful on-farm research. The intent of this outreach effort should be to educate the audience(s) and have them modify their practices accordingly, and thus a plan for evaluating the outreach component must be included.

Priority for funding will be given to proposals that have the potential for significant impact, based on: (a) The magnitude of the problem they address, and (b) inclusion of plans for outreach and education likely to lead to improved knowledge and skills among targeted populations.

The focus of this program is on a systems approach to organic agriculture. Proposals focusing solely on the biology of weedy and invasive plants will not be accepted for this program. Applicants should consider submitting proposals to the National Research Initiative (http://www.reeusda.gov/nri), which has several program areas related to the physiology, ecology, and genetics of weedy and invasive plants.

Part III—Preparation of a Proposal

A. Program Application Materials

Program application materials are available at the Integrated Research, Education, and Extension Competitive Grants Program website (http://www.reeusda.gov/integrated/). If you do not have access to our web page or have trouble downloading material, you may contact the Proposal Services Unit, Office of Extramural Programs, USDA/CSREES at (202) 401-5048. When calling the Proposal Services Unit, please indicate that you are requesting forms for the FY 2001 Integrated Research, Education, and Extension Competitive Grants Program—Pest Management. These materials may also be requested via Internet by sending a message with your name, mailing address (not e-mail) and phone number to psb@reeusda.gov. State that you want a copy of the Program Description and application materials (orange book) for the Fiscal Year 2001 Integrated Research, Education, and Extension Competitive Grants Program—Pest Management.

B. Content of Proposals

1. General

The proposal should follow these guidelines, enabling reviewers to more easily evaluate the merits of each proposal in a systematic, consistent fashion:

(a) The proposal should be prepared on only one side of the page using standard size (8 ½″ x 11″) white paper, one inch margins, typed or word processed using no type smaller than 12 point font, and single or double spaced. Use an easily readable font face (e.g., Geneva, Helvetica, Times Roman).

(b) Each page of the proposal, including the Project Summary, budget pages, required forms, and any appendices, should be numbered sequentially.

(c) The proposal should be stapled in the upper left-hand corner. Do not bind. An original and 14 copies (15 total) must be submitted in one package, along with 10 copies of the “Project Summary” as a separate attachment.

(d) If applicable, proposals should include original illustrations (photographs, color prints, etc.) in all copies of the proposal to prevent loss of meaning through poor quality reproduction.

2. Cover Page (Form CSREES-661)

Each copy of each grant proposal must contain an “Application for Funding”, Form CSREES-661. One copy of the application, preferably the original, must contain the pen-and-ink signature(s) of the proposing principal investigator(s)/project director(s)(PI/PD) and the authorized organizational representative who possesses the necessary authority to commit the organization's time and other relevant resources to the project. Any proposed PI/PD or co-PI/PD whose signature does not appear on Form CSREES-661 will not be listed on any resulting grant award. Complete both signature blocks located at the bottom of the “Application for Funding” form.

Form CSREES-661 serves as a source document for the CSREES grant database; it is therefore important that it be completed accurately. The following items are highlighted as having a high potential for errors or misinterpretations:

(a) Title of Project (Block 6). The title of the project must be brief (80-character maximum), yet represent the major thrust of the effort being proposed. Project titles are read by a variety of nonscientific people; therefore, highly technical words or phraseology should be avoided where possible. In addition, introductory phrases such as “investigation of,” “research on,” “education for,” or “outreach that” should not be used.

(b) Program to Which You Are Applying (Block 7). “Integrated Research, Education, and Extension Competitive Grants Program—Pest Management.”

(c) Program Area and Number (Block 8). The name of the program component (e.g., CAR, 112.A or RAMP, 112.B) should be inserted in this block.

(d) Type of Award Request (Block 13). Check the block for “new” or “resubmission.”

(e) Principal Investigator(s)/Project Director(s) (PI/PD) (Block 15). The designation of excessive numbers of co-PI/PD's creates problems during final review and award processing. Listing multiple co-PI/PD's, beyond those required for genuine collaboration, is therefore discouraged. Note that providing a Social Security Number is voluntary, but is an integral part of the CSREES information system and will assist in the processing of the proposal.

(f) Type of Performing Organization (Block 18). A check should be placed in the box beside the type of organization which actually will carry out the effort. For example, if the proposal is being submitted by an 1862 Land-Grant Institution but the work will be performed in a department, laboratory, or other organizational unit of an agricultural experiment station, box “03” should be checked. If portions of the effort are to be performed in several departments, check the box that applies to the individual listed as PI/PD #1 in Block 15.a.

(g) Other Possible Sponsors (Block 22). List the names or acronyms of all other public or private sponsors including other agencies within USDA and other programs funded by CSREES to whom your application has been or might be sent. In the event you decide to send your application to another organization or agency at a later date, you must inform the identified CSREES Program Director as soon as practicable. Submitting your proposal to other potential sponsors will not prejudice its review by CSREES; however, duplicate support for the same project will not be provided. Complete the “Application for Funding,” Form CSREES-661, in its entirety.

(h) One copy of the “Application for Funding” form must contain the original signatures of the PI/PD(s) and authorized organizational representative for the applicant organization.

3. Table of Contents

For consistency and ease in locating information, each proposal must contain a detailed Table of Contents just after the cover page. The Table of Contents should contain page numbers for each component of the proposal. Page numbers should begin with the first page of the Project Description.

4. Project Summary

The proposal must contain a Project Summary of 250 words or less on a separate page which should be placed immediately after the Table of Contents and should not be numbered. The names and affiliated organizations of all PI/PD's and co-PI/PD's should be listed on this form, in addition to the title of the project. The summary should be a self-contained, specific description of the activity to be undertaken and should focus on: Overall project goal(s) and supporting objectives; plans to accomplish project goal(s); and relevance of the project to the Integrated Competitive Grants Program—Pest Management. The importance of a concise, informative Project Summary cannot be overemphasized.

5. Response to Previous Review

This requirement only applies to “Resubmitted Proposals” as described under Part I, E, “Types of Proposals.” For these proposals, the investigator(s) must respond to the previous panel summary on no more than one page, titled “RESPONSE TO PREVIOUS REVIEW,” which is to be placed directly after the Project Summary. If desired, additional comments and responses to the previous panel summary may be included in the text of the Project Description, subject to the page limitation.

6. Project Description

PLEASE NOTE: The Project Description shall not exceed 15 pages of written text and may not exceed a total of 20 pages including figures and tables. This maximum has been established to ensure fair and equitable competition. The Project Description must include all of the following:

a. Introduction: A clear statement of the long-term goal(s) and supporting objectives of the proposed activities should be included. Summarize the body of knowledge or other past activities which substantiate the need for the proposed project. Describe ongoing or recently completed significant activities related to the proposed project including the work of key project personnel. Preliminary data/information pertinent to the proposed project should be included. In addition, this section should include in-depth information on the following, when applicable:

(1) Estimates of the magnitude of the issues and their relevance to stakeholders and to ongoing State-Federal food and agricultural research, education and extension programs.

(2) Role of the stakeholders in problem identification, planning, and implementation and evaluation as appropriate.

(3) Reasons for having the work performed at the proposing institution.

b. Objectives: Clear, concise, complete, and logically arranged statement(s) of specific aims of the proposed effort must be included in all proposals.

c. Methods: The procedures or methodology to be applied to the proposed effort should be explicitly stated. This section should include but not necessarily be limited to:

(1) A description of stakeholder involvement in problem identification, planning, implementation and evaluation;

(2) A description of the proposed project activities in the sequence in which it is planned to carry them out;

(3) Techniques to be employed, including their feasibility and rationale for their use in this project;

(4) Kinds of results expected;

(5) Means by which extension and education activities will be evaluated;

(6) Means by which data will be analyzed or interpreted;

(7) Details of plans to communicate results to stakeholders and the public;

(8) Pitfalls that might be encountered; and

(9) Limitations to proposed procedures.

d. Cooperation and Institutional Units Involved: Cooperative, multi-institutional and multi-disciplinary applications are encouraged. Identify each institutional unit contributing to the project and designate the lead institution or institutional unit. When appropriate, the project should be coordinated with the efforts of other State and/or national programs. Clearly define the roles and responsibilities of each institutional partner of the project team.

e. Facilities and Equipment: All facilities which are available for use or assignment to the project during the requested period of support should be reported and described briefly. All items of major equipment or instrumentation available for use or assignment to the proposed project should be itemized. In addition, items of nonexpendable equipment needed to conduct and bring the project to a successful conclusion should be listed, including dollar amounts and, if funds are requested for their acquisition, justified.

g. Project Timetable: The proposal should outline all important phases as a function of time, year by year, for the entire project, including periods beyond the grant funding period.

7. References

All references cited should be complete, including titles and all co-authors, and should conform to an accepted journal format.

8. Appendices to Project Description

Appendices to the Project Description are allowed if they are directly germane to the proposed project and are limited to a total of two of the following: reprints (papers that have been published in peer reviewed journals) and preprints (manuscripts in press for a peer reviewed journal; these must be accompanied by a letter of acceptance from the publishing journal).

9. Key Personnel

The following should be included, as applicable:

(a) The roles and responsibilities of each PI/PD and/or collaborator should be clearly described;

(b) An estimate of the time commitment involved for each PI/PD and/or collaborator, including current and pending projects; and

(c) Vitae of each PI/PD, senior associate, and other professional personnel. This section should include vitae of all key persons who are expected to work on the project, whether or not CSREES funds are sought for their support. The vitae should be limited to two (2) pages each in length, excluding publications listings. A chronological list of all publications in refereed journals during the past four (4) years, including those in press, must be provided for each professional project member for whom a curriculum vitae is provided. Also list only those non-refereed publications that have relevance to the proposed project. All authors should be listed in the same order as they appear on each paper cited, along with the title and complete reference as these usually appear in journals.

10. Conflict-of-Interest List

A Conflict-of-Interest List must be provided for all individuals involved in the project (i.e., each individual submitting a vitae in response to item 9.(c) of this part). Each list should be on a separate page and include alphabetically the full names of the individuals in the following categories: (a) All collaborators on projects within the past four years, including current and planned collaborations; (b) all co-authors on publications within the past four years, including pending publications and submissions; (c) all persons in your field with whom you have had a consulting or financial arrangement within the past four years, who stand to gain by seeing the project funded; and (d) all thesis or postdoctoral advisees/advisors within the past four years (some may wish to call these life-time conflicts). This form is necessary to assist program staff in excluding from proposal review those individuals who have conflicts-of-interest with the personnel in the grant proposal. The Program Director must be informed of any additional conflicts-of-interest that arise after the proposal is submitted.

11. Collaborative and/or Subcontractual Arrangements

If it will be necessary to enter into formal consulting or collaborative arrangements with others, such arrangements should be fully explained and justified. In addition, evidence should be provided that the collaborators involved have agreed to render these services. If the need for consultant services is anticipated, the proposal narrative should provide a justification for the use of such services, a statement of work to be performed, a resume or curriculum vita for each consultant, and rate of pay for each consultant. For purposes of proposal development, informal day-to-day contacts between key project personnel and outside experts are not considered to be collaborative arrangements and thus do not need to be detailed.

All anticipated subcontractual arrangements also should be explained and justified in this section. A proposed statement of work and a budget for each arrangement involving the transfer of substantive programmatic work or the providing of financial assistance to a third party must be provided. Agreements between departments or other units of your own institution and minor arrangements with entities outside of your institution (e.g., requests for outside laboratory analyses) are excluded from this requirement.

If you expect to enter into subcontractual arrangements, please note that the provisions contained in 7 CFR part 3019, USDA Uniform Administrative Requirements for Grant and Other Agreements with Institutions of Higher Education, Hospitals, and Other Non-Profit Organizations, and the general provisions contained in 7 CFR Part 3015.205, USDA Uniform Federal Assistance Regulations, flow down to subrecipients. In addition, required clauses from Sections 40-48 (“Procurement Standards”) and Appendix A (“Contract Provisions”) to 7 CFR part 3019 should be included in final contractual documents, and it is necessary for the subawardee to make a certification relating to debarment/suspension.

12. Budget (Form CSREES-55)

a. Budget Form. Prepare the budget, Form CSREES-55, in accordance with instructions provided. A budget form is required for each year of requested support. In addition, a cumulative budget is required detailing the requested total support for the overall project period. The budget form may be reproduced as needed by applicants. Funds may be requested under any of the categories listed on the form, provided that the item or service for which support is requested is allowable under the authorizing legislation, the applicable Federal cost principles, and these program guidelines, and can be justified as necessary for the successful conduct of the proposed project. Applicants must also include a budget narrative to justify their budgets (see section b below.)

The following guidelines should be used in developing your proposal budget(s):

1. Salaries and Wages. Salaries and wages are allowable charges and may be requested for personnel who will be working on the project in proportion to the time such personnel will devote to the project. If salary funds are requested, the number of Senior and Other Personnel and the number of CSREES-Funded Work Months must be shown in the spaces provided. Grant funds may not be used to augment the total salary or rate of salary of project personnel or to reimburse them for time in addition to a regular full-time salary covering the same general period of employment. Salary funds requested must be consistent with the normal policies of the institution.

2. Fringe Benefits. Funds may be requested for fringe benefit costs if the usual accounting practices of your organization provide that organizational contributions to employee benefits (e.g., social security and retirement) be treated as direct costs. Fringe benefit costs may be included only for those personnel whose salaries are charged as a direct cost to the project.

3. Nonexpendable Equipment. Nonexpendable equipment means tangible nonexpendable personal property including exempt property charged directly to the award having a useful life of more than one year and an acquisition cost of $5,000 (or lower depending on institutional policy) or more per unit. As such, items of necessary instrumentation or other nonexpendable equipment should be listed individually by description and estimated cost in the budget narrative. This applies to revised budgets as well, as the equipment item(s) and amount(s) may change.

4. Materials and Supplies. The types of expendable materials and supplies which are required to carry out the project should be indicated in general terms with estimated costs in the budget narrative.

5. Travel. The type and extent of travel and its relationship to project objectives should be described briefly and justified. If travel is proposed, the destination, the specific purpose of the travel, a brief itinerary, inclusive dates of travel, and estimated cost must be provided for each trip. Airfare allowances normally will not exceed round-trip jet economy air accommodations. U.S. flag carriers must be used when available. See 7 CFR Part 3015.205(b)(4) for further guidance.

6. Publication Costs/Page Charges. Include anticipated costs associated with publications in a journal (preparing and publishing results including page charges, necessary illustrations, and the cost of a reasonable number of coverless reprints) and audio-visual materials that will be produced. Photocopying and printing brochure, etc., should be shown in Section I., “All Other Direct Costs” of Form CSREES-55.

7. Computer (ADPE) Costs. Reimbursement for the costs of using specialized facilities (such as a university- or department-controlled computer mainframe or data processing center) may be requested if such services are required for completion of the work.

8. All Other Direct Costs. Anticipated direct project charges not included in other budget categories must be itemized with estimated costs and justified in the budget narrative. This also applies to revised budgets, as the item(s) and dollar amount(s) may change. Examples may include space rental at remote locations, subcontractual costs, and charges for consulting services, telephone, facsimile, shipping costs, and fees necessary for laboratory analyses. You are encouraged to consult the “Instructions for Completing Form CSREES-55, Budget,” of the Application Kit for detailed guidance relating to this budget category. Form AD-1048 must be completed by each subcontractor or consultant and retained by the grantee.

9. Indirect Costs. Section 1462 of the National Agricultural Research, Extension, and Teaching Policy Act of 1977 (7 U.S.C. 3310) limits indirect costs for this program to 19 percent of total Federal funds provided under each award. Therefore the recovery of indirect costs under this program may not exceed the lesser of the institution's official negotiated indirect cost rate or the equivalent of 19 percent of total Federal funds awarded. Another method of calculating the maximum allowable is 23.456 percent of the total direct costs. If no rate has been negotiated, a reasonable dollar amount (equivalent to or less than 19 percent of total Federal funds requested) in lieu of indirect costs may be requested, subject to approval by USDA.

b. Budget Narrative. All budget categories, excluding Indirect Costs, for which support is requested, must be individually listed (with costs) in the same order as the budget and justified on a separate sheet of paper and placed immediately behind the Budget Form. Explanations of matching funds or lack there of on commodity-specific projects also are to be included in this section.

c. Matching Funds. If an applicant concludes that matching funds are not required as specified under Part I, F, “Matching Requirements,” a justification should be included in the budget narrative. CSREES will consider this justification when ascertaining final matching requirements or in determining if required matching can be waived. CSREES retains the right to make final determinations regarding matching requirements.

For those grants requiring matching funds as specified under Part I, F, proposals should include written verification of commitments of matching support (including both cash and in-kind contributions) from third parties. Written verification means:

(a) For any third party cash contributions, a separate pledge agreement for each donation, signed by the authorized organizational representatives of the donor organization and the applicant organization, which must include: (1) The name, address, and telephone number of the donor; (2) the name of the applicant organization; (3) the title of the project for which the donation is made; (4) the dollar amount of the cash donation; and (5) a statement that the donor will pay the cash contribution during the grant period; and

(b) For any third party in-kind contributions, a separate pledge agreement for each contribution, signed by the authorized organizational representatives of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and amount of all matching support from outside the applicant institution should be summarized on a separate page and placed in the proposal immediately following the Budget Narrative. All pledge agreements must be placed in the proposal immediately following the summary of matching support.

The value of applicant contributions to the project shall be established in accordance with applicable cost principles. Applicants should refer to OMB Circular A-21, Cost Principles for Educational Institutions, for further guidance and other requirements relating to matching and allowable costs.

13. Current and Pending Support (Form CSREES-663)

All proposals must contain Form CSREES-663 listing other current public or private support (including in-house support) to which personnel (i.e., individuals submitting a vitae in response to 9.(c) of this part) identified in the proposal have committed portions of their time, whether or not salary support for person(s) involved is included in the budget. Analogous information must be provided for any pending proposals that are being considered by, or that will be submitted in the near future to, other possible sponsors, including other USDA Programs or agencies. Concurrent submission of identical or similar proposals to the possible sponsors will not prejudice proposal review or evaluation by the CSREES for this purpose. However, a proposal that duplicates or overlaps substantially with a proposal already reviewed and funded (or to be funded) by another organization or agency will not be funded under this program. Note that the project being proposed should be included in the pending section of the form.

14. Assurance Statement(s), (Form CSREES-662)

A number of situations encountered in the conduct of projects require special assurances, supporting documeation, etc., before funding can be approved for the project. In addition to any other situation that may exist with regard to a particular project, it is expected that some applications submitted in response to these guidelines will involve the following:

a. Recombinant DNA or RNA Research. As stated in 7 CFR Part 3015.205 (b)(3), all key personnel identified in the proposal and all endorsing officials of the proposing organization are required to comply with the guidelines established by the National Institutes of Health entitled, “Guidelines for Research Involving Recombinant DNA Molecules,” as revised. If your project proposes to use recombinant DNA or RNA techniques, you must so indicate by checking the “yes” box in Block 19 of Form CSREES-661 (the Cover Page) and by completing Section A of Form CSREES-662. For applicable proposals recommended for funding, Institutional Biosafety Committee approval is required before CSREES funds will be released.

b. Animal Care. Responsibility for the humane care and treatment of live vertebrate animals used in any grant project supported with funds provided by CSREES rests with the performing organization. Where a project involves the use of living vertebrate animals for experimental purposes, all key project personnel identified in a proposal and all endorsing officials of the proposing organization are required to comply with the applicable provisions of the Animal Welfare Act of 1966, as amended (7 U.S.C. 2131 et seq.) and the regulations promulgated thereunder by the Secretary in 9 CFR Parts 1, 2, 3, and 4 pertaining to the care, handling, and treatment of these animals. If your project will involve these animals, you should check “yes” in block 20 of Form CSREES-661 and complete Section B of Form CSREES-662. In the event a project involving the use of live vertebrate animals results in a grant award, funds will be released only after the Institutional Animal Care and Use Committee has approved the project.

c. Protection of Human Subjects. Responsibility for safeguarding the rights and welfare of human subjects used in any grant project supported with funds provided by CSREES rests with the performing organization. Guidance on this issue is contained in the National Research Act, Pub. L. No. 93-348, as amended, and implementing regulations promulgated by the Department under 7 CFR Part 1c. If you propose to use human subjects for experimental purposes in your project, you should check the “yes” box in Block 21 of Form CSREES-661 and complete Section C of Form CSREES-662. In the event a project involving human subjects results in a grant award, funds will be released only after the appropriate Institutional Review Board has approved the project.

15. Certifications

Note that by signing Form CSREES-661 the applicant is providing the certifications required by 7 CFR part 3017, as amended, regarding Debarment and Suspension and Drug Free Workplace, and 7 CFR part 3018, regarding Lobbying. The certification forms are included in the application package for informational purposes only. These forms should not be submitted with the proposal since by signing Form CSREES-661 your organization is providing the required certifications. If the project will involve a subcontractor or consultant, the subcontractor/consultant should submit a Form AD-1048 to the grantee organization for retention in their records. This form should not be submitted to USDA.

16. Compliance With the National Environmental Policy Act (NEPA) (Form CSREES-1234)

As outlined in 7 CFR part 3407 (i.e., the Cooperative State Research, Education, and Extension Service regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-1234, “NEPA Exclusions Form,” must be included in the proposal indicating whether the applicant is of the opinion that the project falls within a categorical exclusion and the reasons therefore. If it is the applicant's opinion that the proposed project falls within the categorical exclusions, the specific exclusion must be identified. Form CSREES-1234 and supporting documentation should be included as the last page of this proposal.

Even though a project may fall within the categorical exclusions, CSREES may determine that an Environmental Assessment or an Environmental Impact Statement is necessary for an activity, if substantial controversy on environmental grounds exists or if other extraordinary conditions or circumstances are present which may cause such activity to have a significant environmental effect.

C. Submission of Proposals

1. When To Submit (Deadline Date)

Proposals must be received by COB on May 14, 2001 (5:00 p.m. EST). Proposals received after this date will not be considered for funding.

2. What To Submit

An original and 14 copies must be submitted. In addition submit 10 copies of the proposal's Project Summary. All copies of the proposals and the Project Summaries must be submitted in one package.

3. Where To Submit

Applicants are strongly encouraged to submit completed proposals via overnight mail or delivery service to ensure timely receipt by the USDA. The address for hand-delivered proposals or proposals submitted using an express mail or overnight courier service is: Integrated Research, Education, and Extension Competitive Grants Program—Pest Management; c/o Proposal Services Unit; Cooperative State Research, Education, and Extension Service; U.S. Department of Agriculture; Room 1307, Waterfront Centre; 800 9th Street, SW.; Washington, DC 20024.

Proposals sent via the U.S. Postal Service must be sent to the following address: Integrated Research, Education, and Extension Competitive Grants Program—Pest Management; c/o Proposal Services Unit; Cooperative State Research, Education, and Extension Service; U.S. Department of Agriculture; STOP 2245; 1400 Independence Avenue, SW.; Washington, DC 20250-2245.

D. Acknowledgment of Proposals

The receipt of all proposals will be acknowledged by e-mail. Therefore, applicants are strongly encouraged to provide e-mail addresses, where designated, on the Form CSREES-661. If the applicant's email address is not indicated, CSREES will acknowledge receipt of proposal by letter.

Once the proposal has been assigned an identification number, please cite that number on all future correspondence. If the applicant does not receive an acknowledgment within 60 days of the submission deadline, please contact the Program Director.

Part IV—Review Process

A. General

Each proposal will be evaluated in a 2-part process. First, each proposal will be screened to ensure that it meets the administrative requirements as set forth in this request for proposals. Second, proposals that meet these requirements will be technically evaluated by a peer review panel.

Peer review panel members will be selected based upon their training and experience in relevant scientific, education or extension fields taking into account the following factors: (a) The level of formal scientific, technical education, and extension experience of the individual, as well as the extent to which an individual is engaged in relevant research, education and/or extension activities; (b) the need to include as peer reviewers experts from various areas of specialization within relevant scientific, education, and extension fields; (c) the need to include as reviewers other experts (e.g., producers, range or forest managers/operators, and consumers) who can assess relevance of the proposals to targeted audiences and to program needs; (d) the need to include as peer reviewers experts from a variety of organizational types (e.g., colleges, universities, industry, state and Federal agencies, private profit and non-profit organizations), and geographic locations; (e) the need to maintain a balanced composition of peer review groups with regard to minority and female representation and an equitable age distribution; and (f) the need to include members that can judge the effective usefulness to producers and the general public of each proposal.

B. Evaluation Criteria

Technical merit, relevance to program goals and potential impact will be evaluated for each proposal. Proposals must show evidence of strength in all of these areas to be rated highly for funding. Specific criteria for these proposal attributes are listed below.

(1) Technical merit of all aspects of the proposal, including research, education and extension components.

(a) Conceptual adequacy of overall approach;

(b) Extent to which proposed work addresses identified stakeholder needs;

(c) Conceptual adequacy of hypothesis or hypotheses on which plan is based;

(d) Suitability and feasibility of the methodology for conducting the work;

(e) Time allocated for attainment of objectives;

(f) Qualifications of project personnel;

(g) Institutional experience and competence in the identified area of work;

(h) Adequacy of available support personnel, equipment, and facilities;

(i) Extent to which proposed work integrates research, education and extension; and

(j) Suitability and feasibility of the methodology for evaluating extension and education activities.

(2) Relevancy to Program Goals and Potential Impact.

(a) Relationship of project objectives to national issues and objectives;

(b) Regional or national magnitude of problem addressed;

(c) Evidence of partnerships with other disciplines and institutions;

(d) Extent to which end users are involved in problem identification, planning, implementation and evaluation;

(e) Probability of success of the project; and

(f) Extent to which potential impact can be documented.

Priority will be given for integrated, multifunctional research, education, and extension projects.

C. Conflicts-of-Interest and Confidentiality

During the peer evaluation process, extreme care will be taken to prevent any actual or perceived conflicts-of-interest that may impact review or evaluation. For the purpose of determining conflicts-of-interest, the academic and administrative autonomy of an institution shall be determined by reference to the 2000 Higher Education Directory, published by Higher Education Publications, Inc., 6400 Arlington Boulevard, Suite 648, Falls Church, Virginia 22042. Phone: (703) 532-2305.

Names of submitting institutions and individuals, as well as proposal content and peer evaluations, will be kept confidential, except to those involved in the review process, to the extent permitted by law. In addition, the identities of peer reviewers will remain confidential throughout the entire review process. Therefore, the names of the reviewers will not be released to applicants. At the end of the fiscal year, names of panelists will be made available in such a way that the panelists cannot be identified with the review of any particular proposal.

Part V—Grant Awards

A. General

Within the limit of funds available for such purpose, the awarding official of CSREES shall make grants to those responsible, eligible applicants whose proposals are judged most meritorious under the procedures set forth in this RFP. The date specified by the awarding official of CSREES as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES under this RFP shall be expended solely for the purpose for which the funds are granted in accordance with the approved application and budget, the regulations, the terms and conditions of the award, the applicable Federal cost principles, and the Department's assistance regulations (parts 3015 and 3019 of 7 CFR).

B. Funding Mechanisms

The two mechanisms by which grants may be awarded are as follows:

(1) Standard grant. This is a funding mechanism whereby the Department agrees to support a specified level of effort for a predetermined time period without the announced intention of providing additional support at a future date.

(2) Continuation grant. This is a funding mechanism whereby the Department agrees to support a specified level of effort for a predetermined period of time with a statement of intention to provide additional support at a future date, provided that performance has been satisfactory, appropriations are available for this purpose, and continued support will be in the best interests of the Federal government and the public. This kind of mechanism normally will be awarded for an initial one-year period, and any subsequent continuation project grants will be awarded in one-year increments. The award of a continuation project grant to fund an initial or succeeding budget period does not constitute an obligation to fund any subsequent budget period. Unless prescribed otherwise by CSREES, a grantee must submit a separate application for continued support for each subsequent fiscal year. Requests for such continued support must be submitted in duplicate at least three months prior to the expiration date of the budget period currently being funded. Decisions regarding continued support and the actual funding levels of such support in future years usually will be made administratively after consideration of such factors as the grantee's progress and management practices and the availability of funds. Since initial peer reviews are based upon the full term and scope of the original application, additional evaluations of this type generally are not required prior to successive years' support. However, in unusual cases (e.g., when the nature of the project or key personnel change or when the amount of future support requested substantially exceeds the grant application originally reviewed and approved), additional reviews may be required prior to approving continued funding.

C. Organizational Management Information

Specific management information relating to an applicant shall be submitted on a one-time basis as part of the responsibility determination prior to the award of a grant identified under this RFP, if such information has not been provided previously under this or another CSREES program. CSREES will provide copies of forms recommended for use in fulfilling these requirements as part of the preaward process.

D. Grant Award Document and Notice of Grant Award

The grant award document shall include at a minimum the following:

(1) Legal name and address of performing organization or institution to whom the Administrator has awarded a grant under the terms of this request for proposals;

(2) Title of project;

(3) Name(s) and address(es) of PI/PD's chosen to direct and control approved activities;

(4) Identifying grant number assigned by the Department;

(5) Project period, specifying the amount of time the Department intends to support the project without requiring recompetition for funds;

(6) Total amount of Departmental financial assistance approved by the Administrator during the project period;

(7) Legal authority(ies) under which the grant is awarded;

(8) Approved budget plan for categorizing allocable project funds to accomplish the stated purpose of the grant award; and

(9) Other information or provisions deemed necessary by CSREES to carry out its respective granting activities or to accomplish the purpose of a particular grant.

The notice of grant award, in the form of a letter, will be prepared and will provide pertinent instructions or information to the grantee that is not included in the grant award document.

Part VI—Additional Information

A. Access To Review Information

Copies of summary reviews, not including the identity of reviewers, will be sent to the applicant PI/PD after the review process has been completed.

B. Use of Funds; Changes

(1) Delegation of Fiscal Responsibility

Unless the terms and conditions of the grant state otherwise, the grantee may not in whole or in part delegate or transfer to another person, institution, or organization the responsibility for use or expenditure of grant funds.

(2) Changes in Project Plans

(a) The permissible changes by the grantee, PI/PD(s), or other key project personnel in the approved project grant shall be limited to changes in methodology, techniques, or other aspects of the project to expedite achievement of the project's approved goals. If the grantee and/or the PI/PD(s) are uncertain as to whether a change complies with this provision, the question must be referred to the CSREES Authorized Departmental Officer (ADO) for a final determination.

(b) Changes in approved goals or objectives shall be requested by the grantee and approved in writing by the ADO prior to effecting such changes. In no event shall requests for such changes be approved which are outside the scope of the original approved project.

(c) Changes in approved project leadership or the replacement or reassignment of other key project personnel shall be requested by the grantee and approved in writing by the awarding official of CSREES prior to effecting such changes.

(d) Transfers of actual performance of the substantive programmatic work in whole or in part and provisions for payment of funds, whether or not Federal funds are involved, shall be requested by the grantee and approved in writing by the ADO prior to effecting such transfers, unless prescribed otherwise in the terms and conditions of the grant.

(e) Changes in Project Period: The project period may be extended by CSREES without additional financial support, for such additional period(s) as the ADO determines may be necessary to complete or fulfill the purposes of an approved project, but in no case shall the total project period exceed five years. Any extension of time shall be conditioned upon prior request by the grantee and approval in writing by the ADO, unless prescribed otherwise in the terms and conditions of a grant.

(f) Changes in Approved Budget: Changes in an approved budget must be requested by the grantee and approved in writing by the ADO prior to instituting such changes if the revision will involve transfers or expenditures of amounts requiring prior approval as set forth in the applicable Federal cost principles, Departmental regulations, or in the grant award.

C. Expected Program Outputs and Reporting Requirements

The grantee must prepare an annual report that details all significant activities towards achieving the goals and objectives of the project. The narrative should be succinct and be no longer than five pages, using 12-point, single-spaced type. The report also should include a listing of any students who worked on the project (i.e., report graduate degrees awarded and undergraduates trained, as applicable). A budget summary should be attached to this report, which will provide an overview of all monies spent during the reporting period.

D. Applicable Federal Statutes and Regulations

Several Federal statutes and regulations apply to grant proposals considered for review and to project grants awarded under this program. These include, but are not limited to:

7 CFR Part 1.1—USDA implementation of the Freedom of Information Act.

7 CFR Part 3—USDA implementation of OMB Circular No. A-129 regarding debt collection.

7 CFR Part 15, subpart A—USDA implementation of Title VI of the Civil Rights Act of 1964, as amended.

7 CFR Part 3015—USDA Uniform Federal Assistance Regulations, implementing OMB directives (i.e., OMB Circular Nos. A-21 and A-122) and incorporating provisions of 31 U.S.C. 6301-6308 (the Federal Grant and Cooperative Agreement Act of 1977, Pub. L. 95-224), as well as general policy requirements applicable to recipients of Departmental financial assistance.

7 CFR Part 3017—USDA implementation of Governmentwide Debarment and Suspension (Nonprocurement) and Governmentwide Requirements for Drug-Free Workplace (Grants).

7 CFR Part 3018—USDA implementation of Restrictions on Lobbying. Imposes prohibitions and requirements for disclosure and certification related to lobbying on recipients of Federal contracts, grants, cooperative agreements, and loans.

7 CFR Part 3019—USDA implementation of OMB Circular A-110, Uniform Administrative Requirements for Grants and Other Agreements With Institutions of Higher Education, Hospitals, and Other Nonprofit Organizations.

7 CFR Part 3052—USDA implementation of OMB Circular No. A-133, Audits of States, Local Governments, and Non-profit Organizations.

7 CFR Part 3407—CSREES procedures to implement the National Environmental Policy Act of 1969, as amended.

29 U.S.C. 794 (section 504, Rehabilitation Act of 1973) and 7 CFR Part 15b (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR Part 401).

E. Confidential Aspects of Proposals and Awards

When a proposal results in a grant, it becomes a part of the record of CSREES transactions, available to the public upon specific request. Information that the Secretary determines to be of a confidential, privileged, or proprietary nature will be held in confidence to the extent pbrmitted by law. Therefore, any information that the applicant wishes to have considered as confidential, privileged, or proprietary should be clearly marked within the proposal. The original copy of a proposal that does not result in a grant will be retained by the Agency for a period of one year. Other copies will be destroyed. Such a proposal will be released only with the consent of the applicant or to the extent required by law. A proposal may be withdrawn at any time prior to the final action thereon.

F. Regulatory Information

For the reasons set forth in the final Rule-related Notice to 7 CFR part 3015, subpart V (48 FR 29115, June 24, 1983), this program is excluded from the scope of the Executive Order 12372 which requires intergovernmental consultation with State and local officials. Under the provisions of the Paperwork Reduction Act of 1995, as amended (44 U.S.C. chapter 35), the collection of information requirements contained in this Notice have been approved under OMB Document No. 0524-0022.

Done at Washington, DC, this 7th day of March 2001.
Colien Hefferan,
Administrator, Cooperative State Research, Education, and Extension Service.

[FR Doc. 01-6200 Filed 3-12-01; 8:45 am]

BILLING CODE 3410-22-P